DEPARTMENT OF JUSTICE

Environment and Natural Resources Division; Notice of Lodging of Proposed Consent Decree

In accordance with Departmental Policy, 28 CFR 50.7, notice is hereby given that a proposed Consent Decree in United States v. Hartz Construction Co., Inc., Civ. No. 98-C-4785 (N.D. Ill.), was lodged with the United States District Court for the Northern District of Illinois on June 15, 2001. This proposed Consent Decree concerns a complaint filed by the United States of America against Hartz Construction Co., Inc., pursuant to section 309(b) and (d), and section 404(s), of the Clean Water Act, 33 U.S.C. 1319(b), (d), 1344(s), to obtain injunctive relief and impose civil penalties against the Defendant for unlawfully discharging dredged or fill materials into waters of the United States at two sites located in Cook County, Illinois, and for failing to comply with requests for information in accordance with Clean Water Act section 308(a), 33 U.S.C. 1318(a).

The proposed Consent Decree requires the Defendant to pay a civil penalty in the amount of $80,000, for its unauthorized discharges and for its noncompliance with requests for information. In addition, the Defendant has established an area within or adjacent to both of the sites for the purpose of creating waters of the United States to mitigate the loss of waters of the United States as alleged in the Complaint. The proposed Consent Decree further reflects the fact that the Defendant has represented that it has now fully and completely responded to the requests for information.

The Department of Justice will receive written comments relating to this proposed Consent Decree for thirty (30) days from the date of publication of this notice. Please address comments to the Assistant Attorney General, Environmental and Natural Resources Division, Department of Justice, Attention: Joshua M. Levin, P.O. Box 23986, Washington, D.C. 20026-3986. Please refer to the matter of United States v. Hartz Construction Co., Inc., DJ Reference No. 90-5-1-1-05007.

The proposed Consent Decree may be examined at the Clerk's Office, United States District Court for the Northern District of Illinois, 219 South Dearborn Street, Chicago, IL 60604. In addition, the proposed Consent Decree may be viewed on the World Wide Web at http://www.usdoj.gov/enrd/enrd-home.html.

Scott A. Schachter,
Assistant Section Chief, Environmental Defense Section, Environment and Natural Resources Division.

[FR Doc. 01-17880 Filed 7-17-01; 8:45 am]

BILLING CODE 4410-15-M